FEDERAL COMMUNICATIONS COMMISSION

47 CFR Part 54

[WC Docket Nos. 16-271, 18-143, 19-195; DA 23-259, FR ID 135133]

Comment Sought on Continued Filing of Alaska Plan FCC Form 477 Mobile Deployment Data; Waiver of Interim PR-USVI Mobile Milestone Filing and Information Provided for Final Milestone Filing

AGENCY: Federal Communications Commission.

ACTION: Proposed rule.

SUMMARY: In this document, the Wireless Telecommunications Bureau (WTB) and Office of Economics and Analytics (OEA) seek comment on the process to continue the filing of mobile deployment data consistent with previous FCC Form 477 filings for mobile participants of the Alaska Plan. The document also provides information from the Wireline Competition Bureau (WCB) for mobile recipients of the Uniendo a Puerto Rico Fund and Connect USVI Fund to file their FCC Form 477 network coverage data as part of their final milestone requirement. In addition, WCB waives the data reporting requirement for the interim milestone for mobile recipients of the Uniendo a Puerto Rico Fund and the Connect USVI Fund.

DATES: Comments are due on or before April 26, 2023, and Reply Comments are due May 8, 2023. If you anticipate that you will be submitting comments, but find it difficult to do so within the period of time allowed by this document, you should advise the contact listed in the following as soon as possible.

ADDRESSES: Pursuant to §§ 1.415 and 1.419 of the Commission's rules, interested parties may file comments and reply comments on or before the dates indicated on the first page of this document. Comments may be filed using the Commission's Electronic Comment Filing System (ECFS).

• Electronic Filers: Comments may be filed electronically using the internet by accessing the ECFS: https://www.fcc.gov/ecfs/filings.

• Paper Filers: Parties who choose to file by paper must file an original and one copy of each filing. If more than one docket or rulemaking number appears in the caption of this proceeding, filers must submit two additional copies for each additional docket or rulemaking number.

• Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19.

Comments and reply comments must include a short and concise summary of the substantive arguments raised in the pleading. Comments and reply comments must also comply with § 1.49 and all other applicable sections of the Commission's rules. The Commission directs all interested parties to include the name of the filing party and the date of the filing on each page of their comments and reply comments.

To request materials in accessible formats for people with disabilities (braille, large print, electronic files, audio format), send an email to fcc504@fcc.gov or call the Consumer & Governmental Affairs Bureau at 202-418-0530 (voice), 202-418-0432 (tty).

FOR FURTHER INFORMATION CONTACT: For additional information on the proceeding, contact Matthew Warner of the Wireless Telecommunications Bureau, Competition and Infrastructure Policy Division, matthew.warner@fcc.gov, (202) 418-0247; Dangkhoa Nguyen, Wireline Competition Bureau, Telecommunications Access Policy Division, dangkhoa.nguyen@fcc.gov, (202) 418-7865.

SUPPLEMENTARY INFORMATION: This is a summary of the Bureau's Public Notice in WC Docket Nos. 16-271, 18-143, 19-195; DA 23-259, released on March 27, 2023. The full text of this document is available at the following internet address: https://docs.fcc.gov/public/attachments/DA-23-259A1.pdf.

Ex Parte Rules: This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

1. In 2022, the Federal Communications Commission (Commission) instituted the Broadband Data Collection (BDC), which required the filing of mobile deployment data similar to that collected through FCC Form 477, though with significant differences. The specified requirements of the BDC can lead to different coverage area data than what mobile providers submitted pursuant to FCC Form 477.

2. On December 9, 2022, as a further step in implementing the BDC, the Commission adopted an order, Form 477 Sunset Order, 87 FR 76949, December 16, 2022, sunsetting the collection of broadband and mobile voice deployment data through FCC Form 477. The Commission recognized, however, that it currently relies upon information from its FCC Form 477 data collection in other contexts, including, among other things, to assess the deployment of broadband services. Accordingly, the Form 477 Sunset Order (1) delegated authority to WTB and OEA to instruct mobile participants of the Alaska Plan how to submit coverage data specific to Alaska after sunsetting FCC Form 477 deployment data, and (2) delegated authority to WCB to instruct mobile providers that participate in either the Bringing Puerto Rico Together Fund or the Connect USVI Fund on how to submit coverage data for Puerto Rico and USVI, respectively.

3. Alaska Plan. WTB and OEA propose to require mobile participants in the Alaska Plan to file deployment data consistent with FCC Form 477 and seek comment on the proposal. The Alaska Plan Order, 81 FR 69696, October 7, 2016, required mobile provider participants of the Alaska Plan to submit performance plans in 2016, with commitments due in 2021 and 2026. These original performance plans and any revised plans approved by WTB were based on mobile coverage consistent with the FCC Form 477 requirements. The propagation models and the speeds in these approved performance plans often do not align with BDC requirements. Continued filing of deployment data under the previous FCC Form 477 instructions will allow for like comparisons to the previous deployment data on which Alaska Plan mobile providers based their commitments. WTB and OEA believe such data are, therefore, essential for understanding whether providers met their commitments.

4. WTB and OEA propose that all mobile participants in the Alaska Plan file deployment data consistent with FCC Form 477 instructions. Mobile Alaska Plan participants would file these deployment data annually until March 1, 2028. These data will allow like comparisons to continue throughout the ten-year Alaska Plan, with an additional year of data after the final commitment. The data would be submitted through the BDC special collections portal. For the first year, data representing December 2022 would be due by June 30, 2023. Subsequently, the FCC Form 477-based data would be due March 1 of each year. WTB and OEA seek comment on the proposal.

5. WCB requires Stage 2 mobile recipients of the Uniendo a Puerto Rico Fund and the Connect USVI Fund to file FCC Form 477 network deployment data for their final 100% network coverage area data submission in the BDC special collections portal. WCB also waives, on its own motion, the requirement for mobile providers receiving support to resubmit interim milestone reports demonstrating 66% mobile network coverage area.

6. In 2017, Hurricanes Irma and Maria caused massive devastation to Puerto Rico (PR) and the United States Virgin Islands (USVI). In response, the Commission created the Uniendo a Puerto Rico Fund and the Connect USVI Fund. As part of Stage 2 of those Funds, the Commission has authorized approximately $385.9 million in universal service support to facilitate and harden deployment of advanced broadband networks. More than $250 million of this funding was dedicated to mobile broadband restoration, hardening, and improvement over a three-year period. Specifically as to mobile support recipients, the Commission required, as a condition of support, that providers meet interim and final network coverage area milestones. At the end of the three-year term of support, each mobile support recipient must have restored its mobile network coverage to an area that is equal to or greater than 100% of the pre-hurricane network coverage area when compared with its June 2017 FCC Form 477 coverage data.

7. In the 2019 PR USVI Order, 84 FR 59937, November 7, 2019, the Commission provided that the filing of coverage data pursuant to FCC Form 477 instructions is essential for like comparisons to assess whether providers fulfilled this requirement. The Commission required PR/USVI Fund mobile recipients to file FCC Form 477 network deployment data for their final 100% network coverage area data submission. The deadline for mobile providers to file their final 100% network coverage area data submission is January 30, 2024. As directed by the Commission, the final network coverage area report would be based on FCC Form 477 data and shall reflect the network coverage area for a provider as of the end of its three-year Stage 2 support term. Providers shall file consistent with previous FCC Form 477 instructions, submitting through the BDC special collections portal utilizing the data specifications released by the Bureau.

8. While WCB is committed to ensuring the full restoration of mobile networks to their pre-hurricane coverage areas, it takes this opportunity to waive, on its own motion, the interim milestone report for mobile providers receiving support to demonstrate 66% mobile network coverage area for the Uniendo a Puerto Rico Fund and the Connect USVI Fund. WCB finds this waiver for the filing of the network coverage report to be warranted and in the public interest based on the Commission's receipt of FCC Form 477 reporting data, which were submitted and certified by mobile providers subject to the interim milestone report. An analysis comparing FCC Form 477 data for June 2017 and subsequent filing periods from PR and USVI mobile providers verified that each provider has restored more than 66% of its network coverage area that existed prior to the 2017 hurricanes, thus meeting the interim milestone under § 54.1514(a) of the Commission's rules. WCB concludes that limiting the burden on providers and not requiring them to expend their resources to resubmit FCC Form 477 data already in the Commission's possession is in the public interest.

9. While WCB finds a waiver of the 66% interim milestone report is warranted, WCB maintains the Commission's requirement for ensuring mobile providers meet their network performance commitments and their final 100% network coverage area milestone reports and certifications. In a separate public notice, WCB and OEA will provide instructions regarding the reporting of drive, drone, and/or scattered site test data for network coverage and reporting of network performance as part of the final 100% milestone report.

Federal Communications Commission.
Amy Brett,
Acting Chief of Staff, Wireless Telecommunications Bureau.

[FR Doc. 2023-07563 Filed 4-10-23; 8:45 am]

BILLING CODE 6712-01-P